DEPARTMENT OF VETERANS AFFAIRS

Advisory Committee on Cemeteries and Memorials, Amended Notice of Meeting

The Department of Veterans Affairs (VA) gives notice under the Federal Advisory Committee Act that a meeting of the Advisory Committee on Cemeteries and Memorials will be held on October 31-November 1, 2017. The meeting sessions will take place at the Jefferson Barracks Medical Center, 1 Jefferson Barracks Drive, Building 56, St. Louis, MO 63125. Sessions are open to the public, except when the Committee is conducting tours of VA facilities, participating in off-site events, and participating in workgroup sessions. Tours of VA facilities are closed, to protect from disclosure Veterans' information the disclosure of which would constitute a clearly unwarranted invasion of personal privacy.

The purpose of the Committee is to advise the Secretary of Veterans Affairs on the administration of national cemeteries, soldiers' lots and plots, the selection of new national cemetery sites, the erection of appropriate memorials, and the adequacy of Federal burial benefits. The Committee will make recommendations to the Secretary regarding such activities.

On the morning of Tuesday, October 31st, the Committee will convene with an open session at the Jefferson Barracks Medical Center, 1 Jefferson Barracks Drive, Building 56, St. Louis, MO 63125, from 8:30 a.m. to 12:00 p.m. central time. The agenda will include briefings on NCA Modernization efforts and Committee recommendations. In the afternoon, from 1:00 p.m. to 4:00 p.m., central time, the Committee will reconvene a closed session, as it tours the NCA National Training Center co-located at the meeting site and Jefferson Barracks National Cemetery at 2900 Sheridan Road, St. Louis, MO 63125.

On November 1st, the meeting will convene an open session at the Jefferson Barracks Medical Center, 1 Jefferson Barracks Drive, Building 56, St. Louis, MO 63125, from 8:30 a.m.-4:00 p.m. central time. The agenda will include a continuation of briefings on Committee Recommendations and a briefing on the Veterans Legacy Program.

Time will be allocated for receiving oral presentations from the public each day. The dial-in number is 1-800-767-1750, access code 52799#. Note: The telephone line will be muted until the Committee Chairman opens the floor for public comment. Any member of the public wishing to attend the meeting should contact Ms. Christine Hamilton, Designated Federal Officer, at (202) 461-5680. The Committee will also accept written comments. Comments may be transmitted electronically to the Committee at Christine.hamilton1@va.gov or mailed to the National Cemetery Administration (40A1), 810 Vermont Avenue NW., Washington, DC 20420. In the public's communications with the Committee, the writers must identify themselves and state the organizations, associations, or persons they represent.

Dated: October 18, 2017.
Jelessa M. Burney,
Federal Advisory Committee Management Officer.

[FR Doc. 2017-22945 Filed 10-20-17; 8:45 am]

BILLING CODE P